DEPARTMENT OF COMMERCE

National Oceanic and Atmospheric Administration

Proposed Information Collection; Comment Request; Alaska American Fisheries Act (AFA) Permits

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 3, 2019.

ADDRESSES: Direct all written comments to Adrienne Thomas, PRA Officer, NOAA, 151 Patton Avenue, Room 159, Asheville, NC 28801 (or at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Gabrielle Aberle, National Marine Fisheries Service, P.O. Box 21668, Juneau, AK 99802-1668. Telephone (907) 586-7228.

SUPPLEMENTARY INFORMATION:

I. Abstract

This request is for extension of a current information collection.

The American Fisheries Act (AFA) was signed into law in October 1998. The purpose of the AFA was to tighten U.S. ownership standards that had been exploited under the Anti-reflagging Act, and to provide the Bering Sea and Aleutian Islands (BSAI) pollock fleet the opportunity to conduct their fishery in a more rational manner while protecting non-AFA participants in the other fisheries. The AFA established sector allocations in the BSAI pollock fishery, determined eligible vessels and processors, allowed the formation of cooperatives, set limits on the participation of AFA vessels in other fisheries, and imposed special catch weighing and monitoring requirements on AFA vessels.

Any vessel used to engage in directed fishing for a non-western Alaska community development quota (non-CDQ) allocation of pollock in the Bering Sea and any shoreside processor, stationary floating processor, or mothership that receives pollock harvested in a non-CDQ directed pollock fishery in the Bering Sea must have a valid AFA permit on board the vessel or at the facility location at all times while non-CDQ pollock is being harvested or processed.

Permanent AFA permits (AFA catcher vessel, AFA catcher/processor, AFA mothership, and AFA inshore processor) for the BSAI pollock fishery had a one-time application deadline of December 1, 2000, and were issued with an indefinite expiration date. Therefore, except for participants that require annual or replacement permits, all AFA entities required to have a permit are already permitted.

This information collection contains the following AFA permitting and reporting requirements:

• The AFA Permit: Rebuilt, Replacement, or Removed Vessel Application is submitted by an owner of an AFA vessel to notify NMFS the vessel has been rebuilt; to request an AFA permit for a replacement catcher vessel, catcher/processor, or mothership; or to request removal of an AFA catcher vessel that is a member of an inshore cooperative and assign its catch history to another vessel or vessels in the same cooperative.

• The Application for AFA Inshore Catcher Vessel Cooperative Permit is submitted annually by each AFA inshore catcher vessel cooperative to obtain an AFA Inshore Catcher Vessel Cooperative Permit and identify the vessels and processors that will be participating in the BSAI pollock fishery prior to the start of each fishing year.

• The AFA Inshore Vessel Contract Fishing Notification is submitted by an AFA inshore cooperative that intends to contract with a non-member vessel to harvest a portion of the cooperative's annual pollock allocation to notify NMFS of vessels that might be reporting with an alternative cooperative ID.

• The Application for Approval as an Entity to Receive Transferable Chinook Salmon PSC Allocation is submitted by an entity representing the catcher/processor sector or the mothership sector to request approval to receive transferable Chinook salmon PSC allocations on behalf of members of the sector. Once approved, an entity is not required to reapply for or renew its status. Entities sometimes submit amendments to update contact and other information related to the entity and its members.

• The Application for Transfer of Bering Sea Chinook Salmon PSC Allocations is submitted by an authorized representative of the catcher/processor sector, the mothership sector, an inshore cooperative, or a CDQ group to transfer Chinook salmon PSC allocations to another entity's account.

II. Method of Collection

All may be submitted to NMFS by mail, fax, or delivery except the AFA Inshore Vessel Contract Fishing Notification, which is not accepted by fax. The Application for Transfer of Bering Sea Chinook Salmon PSC Allocations and the Approval as an Entity to Receive Transferable Chinook Salmon PSC Application may be submitted online through eFISH on the NMFS Alaska Region website at https://alaskafisheries.noaa.gov/webapps/efish/login.

III. Data

OMB Control Number: 0648-0393.

Form Number(s): None.

Type of Review: Regular Submission (extension of a current information collection).

Affected Public: Business or other for-profit organizations; Individuals or households.

Estimated Number of Respondents: 27.

Estimated Time per Response: 1 hour each for AFA Permit: Rebuilt, Replacement, or Removed Vessel Application and Application for Transfer of Bering Sea Chinook Salmon PSC Allocations; 2 hours for Application for AFA Inshore Catcher Vessel Cooperative Permit; 4 hours for AFA Inshore Vessel Contract Fishing Notification; 8 hours for Application for Approval as an Entity to Receive Transferable Chinook Salmon PSC Allocation.

Estimated Total Annual Burden Hours: 135 hours.

Estimated Total Annual Cost to Public: $155 in recordkeeping and reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-21619 Filed 10-3-19; 8:45 am]

BILLING CODE 3510-22-P